DEPARTMENT OF AGRICULTURE

Rural Housing Service

Notice of Solicitation of Applications (NOSA) for the Multifamily Preservation and Revitalization (MPR) Demonstration Program Under Section 514, Section 515, and Section 516 for Fiscal Year 2015

AGENCY: Rural Housing Service, USDA.

ACTION: Notice; Correction.

SUMMARY: This document revises five items in the initial notice that appeared in the Federal Register on August 3, 2015, entitled “Notice of Solicitation of Applications (NOSA) for the Multifamily Preservation and Revitalization (MPR) Demonstration Program under Section 514, Section 515, and Section 516 for Fiscal Year 2015.” These items include an application deadline, three Web sites addresses, and a clarification.

DATES: This document is effective August 18, 2015.

FOR FURTHER INFORMATION CONTACT: Dean Greenwalt, dean.greenwalt@wdc.usda.gov, (314) 457-5933, and/or Abby Boggs abby.boggs@wdc.usda.gov, (615) 783-1382, Finance and Loan Analyst, Multi-Family Housing Preservation and Direct Loan Division, STOP 0782, (Room 1263-S) U.S. Department of Agriculture, Rural Development, 1400 Independence Avenue SW., Washington, DC 20250-0782.

SUPPLEMENTARY INFORMATION: In FR Doc. 2015-19880 of August 3, 2015 (80 FR 45933), make the following corrections:

1. On page 45933, in the third column, under DATES: item (1), remove “120 calendar days after August 3, 2015,” and add “December 1, 2015,” in its place.

2. On page 45934, in the third column, under Section I.A.1, in the fourth sentence, remove the Web site address listed as “http://teamrrd.usda.gov/rd/emp_services/directory/states/Combined.doc” and add “http://www.rd.usda.gov/contact-us/state-offices” in its place.

3. On page 45937, in third column, under Section IV.B.2, in the second paragraph, last sentence, remove the Web site address listed as “http://teamrrd.usda.gov/rd/emp_services/directory/states/Combined.doc” and add “http://www.rd.usda.gov/contact-us/state-offices” in its place.

4. On page 45941, in the second column, under Section VI.C, in the second sentence, remove “If no offer is made,” and add “If no offer is made or if the applicant fails to accept or reject the offer presented,” in its place.

5. On page 45941, in the third column, under Section VIII, in the first sentence, remove the Web site address listed as “http://teamrrd.usda.gov/rd/emp_services/directory/states/Combined.doc” and add “http://www.rd.usda.gov/contact-us/state-offices” in its place.

Dated: August 11, 2015.
Tony Hernandez,
Administrator, Rural Housing Service.

[FR Doc. 2015-20399 Filed 8-17-15; 8:45 am]

BILLING CODE 3410-XV-P